DEPARTMENT OF JUSTICE

Notice of Lodging of Consent Decree Under the Solid Waste Disposal Act

Under 28 C.F.R. § 50.7 notice is hereby given that on February 19, 2003 a proposed Consent Decree (“Decree”) in United States v. Route 109 Service Stations, Inc., et al., Civil Action No. CV-98-7406, was lodged with the United States District Court for the Eastern District of New York.

In this action the United States sought civil penalties and injunctive relief for violations of the Underground Storage Tank (“UST”) regulations at 32 facilities located in the Greater New York Metropolitan area. The Decree requires the ten corporate defendants and an individual defendant to pay a civil penalty in the amount of $310,000, remain in compliance with UST regulations, provide a Certification of Compliance within thirty days of entry of the Decree and pay stipulated penalties in the event of noncompliance with any provisions of the Decree.

The Department of Justice will receive for a period of thirty (30) days from the date of this publication comments relating to the Decree. Comments should be addressed to the Assistant Attorney General, Environment and Natural Resources Division, P.O. Box 7611, U.S. Department of Justice, Washington, DC 20044-7611, and should refer to United States v. Route 109 Service Stations, Inc., et al., D.J. Ref. 90-7-1-920.

The Decree may be examined at the Office of the United States Attorney, One Pierrepont Plaza, 14th Floor, Brooklyn, New York, and at U.S. EPA Region II, 290 Broadway, New York, New York. A copy of the Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $4.00 (25 cents per page reproduction cost) payable to the U.S. Treasury.

Stanley N. Alpert,
Chief, Environmental Litigation, Assistant U.S. Attorney, Eastern District of New York, One Pierrepont Plaza, Brooklyn, New York 11201.

[FR Doc. 03-5756 Filed 3-10-03; 8:45 am]

BILLING CODE 4410-15-M